SMALL BUSINESS ADMINISTRATION

Revocation of License of Small Business Investment Company

Pursuant to the authority granted to the United States Small Business Administration by the Wind-Up Order of the United States District Court for the Northern District of Iowa, Cedar Rapids Division, entered September 19, 2011, the United States Small Business Administration hereby revokes the license of Berthel SBIC, LLC, a Delaware limited liability company, to function as a small business investment company under the Small Business Investment Company License No. 07070100 issued to Berthel SBIC, LLC, on May 4, 1998 and said license is hereby declared null and void as of September 19, 2011.

United States Small Business Administration.
Dated: June 4, 2012.
Sean J. Greene,
Associate Administrator for Investment.

[FR Doc. 2012-14837 Filed 6-19-12; 8:45 am]

BILLING CODE 8025-01-P